DEPARTMENT OF ENERGY

Federal Energy Regulatory Commission

[Docket No. RP03-398-009]

Northern Natural Gas Company; Notice of Compliance Filing

June 25, 2004.

Take notice that on June 23, 2004, Northern Natural Gas Company (Northern) tendered for filing to become part of its FERC Gas Tariff, Fifth Revised Volume No. 1, the following tariff sheets, with an effective date of November 1, 2003:

2 Substitute Third Revised Sheet No. 125A;

Substitute First Revised Sheet No. 142B;

2 Substitute Seventh Revised Sheet No. 226;

Substitute Fourth Revised Sheet No. 227;

Substitute Third Revised Sheet No. 228;

Substitute Original Sheet No. 228A;

Ninth Revised Sheet No. 286;

Second Revised Sheet No. 306.

Northern states that the filing is being made in compliance with the Commission's June 2, 2004 Order on Rehearing, Clarification and Compliance in this proceeding.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1452 Filed 6-30-04; 8:45 am]

BILLING CODE 6717-01-P